NUCLEAR REGULATORY COMMISSION

10 CFR Part 50

[NRC-2025-0032]

Draft Regulatory Guide: Emergency Response Planning and Preparedness for Nuclear Power Reactors

AGENCY: Nuclear Regulatory Commission.

ACTION: Draft guide; request for comment.

SUMMARY: The U.S. Nuclear Regulatory Commission (NRC) is issuing for public comment a draft Regulatory Guide (DG), DG-1423, “Emergency Response Planning and Preparedness for Nuclear Power Reactors.” This DG is proposed Revision 7 of Regulatory Guide (RG) 1.101, “Emergency Response Planning and Preparedness for Nuclear Power Reactors.” This proposed revision would endorse Revision 1 of the Nuclear Energy Institute (NEI) white paper, “Enabling a Remote Response by Members of an Emergency Response Organization,” dated September 2024, and Revision 7 of NEI 99-01, “Development of Emergency Action Levels for Non-Passive Reactors,” dated September 2024.

DATES: Submit comments by April 9, 2025. Comments received after this date will be considered if it is practical to do so, but the NRC is able to ensure consideration of only comments received on or before this date.

ADDRESSES: You may submit comments by any of the following methods; however, the NRC encourages electronic comment submission through the Federal rulemaking website.

• Federal rulemaking website: Go to https://www.regulations.gov and search for Docket ID NRC-2025-0032. Address questions about Docket IDs in Regulations.gov to Bridget Curran; telephone: 301-415-1003; email: Bridget.Curran@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Cindy Rosales-Cooper, Office of Nuclear Security and Incident Response, telephone: 301-287-9500, email: Cindy.Rosales-Cooper@nrc.gov and Stanley Gardocki, Office of Nuclear Regulatory Research, telephone: 301-415-1067, email: Stanley.Gardocki@nrc.gov. Both are staff of the U.S. Nuclear Regulatory Commission, Washington, DC 20555-0001.

SUPPLEMENTARY INFORMATION:

I. Obtaining Information and Submitting Comments

A. Obtaining Information

Please refer to Docket ID NRC-2025-0032 when contacting the NRC about the availability of information for this action. You may obtain publicly available information related to this action by any of the following methods:

• Federal rulemaking website: Go to https://www.regulations.gov and search for Docket ID NRC-2025-0032.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0032 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe methods that are acceptable to the NRC staff for implementing specific parts of the agency's regulations, to explain techniques that the staff uses in evaluating specific issues or postulated events, and to describe information that the staff needs in its review of applications for permits and licenses.

The DG, entitled “Emergency Response Planning and Preparedness for Nuclear Power Reactors,” is temporarily identified by its task number, DG-1423 (ADAMS Accession No. ML24019A202). The staff is also issuing for public comment a regulatory analysis (ADAMS Accession No. ML24019A196). The staff develops a regulatory analysis to assess the value of issuing or revising a regulatory guide as well as alternative courses of action.

The staff would issue Revision 7 of RG 1.101 to endorse and update guidance that is available to licensees and applicants on methods acceptable to the NRC staff for complying with the NRC's regulations for emergency response plans and preparedness at nuclear power reactors in § 50.47 of title 10 of the Code of Federal Regulations (10 CFR), “Emergency plans,” and appendix E, “Emergency Planning and Preparedness for Production and Utilization Facilities,” to 10 CFR part 50, “Domestic Licensing of Production and Utilization Facilities.” This DG is for light-water reactors, including those of an advanced design (e.g., AP1000); the NRC intends for small modular reactors and other new non-light-water technologies to have design-specific RGs to support development of their emergency plans.

This proposed revision would endorse Revision 1 of the NEI white paper, “Enabling a Remote Response by Members of an Emergency Response Organization,” dated September 2024. This revision also would endorse Revision 7 of NEI 99-01, “Development of Emergency Action Levels for Non-Passive Reactors,” dated September 2024. In addition, this proposed revision of RG 1.101 would provide generic guidance to licensees for maintaining regulatory compliance for alert and notification systems when making significant design changes. Additionally, the NRC staff would clarify the continued use of Revision 0 of the NEI white paper, “Implementing a 24-Month Frequency for Emergency Preparedness Program Reviews,” issued November 2019.

As noted in the Federal Register on December 9, 2022 (87 FR 75671), this document is being published in the “Proposed Rules” section of the Federal Register to comply with publication requirements under chapter 1 of title 1 of the CFR.

III. Backfitting, Forward Fitting, and Issue Finality

The issuance of DG-1423, if finalized, would constitute proposed Revision 7 to RG 1.101, which describes methods acceptable to the NRC staff for complying with the NRC's regulations for emergency response planning and preparedness in 10 CFR 50.47 and appendix E to 10 CFR part 50. Issuance of DG-1423 in final form would not constitute backfitting as defined in 10 CFR 50.109, “Backfitting,” and as described in NRC Management Directive (MD) 8.4, “Management of Backfitting, Forward Fitting, Issue Finality, and Information Requests”; constitute forward fitting as that term is defined and described in MD 8.4; or affect the issue finality of any approval issued under 10 CFR part 52, “Licenses, Certifications, and Approvals for Nuclear Power Plants.” As explained in DG-1423, applicants and licensees generally would not be required to comply with the positions in DG-1423.

IV. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: March 4, 2025.
For the Nuclear Regulatory Commission.
Meraj Rahimi,
Chief, Regulatory Guide and Programs Management Branch, Division of Engineering, Office of Nuclear Regulatory Research.

[FR Doc. 2025-03761 Filed 3-7-25; 8:45 am]

BILLING CODE 7590-01-P